DEPARTMENT OF COMMERCE

National Oceanic and Atmospheric Administration

[RTID 0648-XA468]

Marine Mammals; File No. 23858

AGENCY: National Marine Fisheries Service (NMFS), National Oceanic and Atmospheric Administration (NOAA), Commerce.

ACTION: Notice; receipt of application.

SUMMARY: Notice is hereby given that the NMFS' Marine Mammal Laboratory, 7600 Sand Point Way NE, Seattle, WA 98115-6349 (Responsible Party: John Bengtson, Ph.D.), has applied in due form for a permit to conduct research on pinnipeds in Alaska.

DATES: Written, telefaxed, or email comments must be received on or before October 13, 2020.

ADDRESSES: The application and related documents are available for review by selecting “Records Open for Public Comment” from the “Features” box on the Applications and Permits for Protected Species (APPS) home page, https://apps.nmfs.noaa.gov, and then selecting File No. 23858 from the list of available applications. These documents are also available upon written request via email to NMFS.Pr1Comments@noaa.gov.

Written comments on this application should be submitted via email to NMFS.Pr1Comments@noaa.gov. Please include File No. 23858 in the subject line of the email comment.

Those individuals requesting a public hearing should submit a written request via email to NMFS.Pr1Comments@noaa.gov. The request should set forth the specific reasons why a hearing on this application would be appropriate.

FOR FURTHER INFORMATION CONTACT: Sara Young or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant requests a five-year permit for takes of bearded (Erignathus barbatus), harbor (Phoca vitulina), ribbon (Histriophoca fasciata), ringed (Phoca hispida), and spotted seals (Phoca largha) in the North Pacific Ocean, Bering Sea, Arctic Ocean, and coastal regions of Alaska. The purposes of the research are to investigate the foraging ecology, population abundance and trends, population structure, habitat requirements, health, vital rates, and effects of natural and anthropogenic factors on these species. Annually, up to 150 of each ice-associated seal species (bearded, ribbon, ringed, and spotted) and up to 250 harbor seals may be captured, handled, and released for measurement of body condition, collection of tissue samples, deployment of telemetry devices, and other procedures as described in the application. An additional 3,000 of each ice associated seal species and 5,500 harbor seals may be incidentally harassed annually during capture activities or collection of feces and other samples from haul-out substrate. Annual takes by harassment during aerial surveys (manned and unmanned) include 3,200 bearded, 6,000 harbor, 1,750 ribbon, 6,700 ringed, and 4,500 spotted seals. Authorization is requested for up to 15 unintentional mortalities of each species over the life of the permit, not to exceed 5 annually. Up to 500 Steller sea lions (Eumetopias jubatus) of the Eastern Distinct Population Segment may be taken annually by incidental harassment during harbor seal aerial surveys.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 8, 2020.
Julia Marie Harrison,
Chief, Permits and Conservation Division, Office of Protected Resources, National Marine Fisheries Service.

[FR Doc. 2020-20060 Filed 9-10-20; 8:45 am]

BILLING CODE 3510-22-P